ENVIRONMENTAL PROTECTION AGENCY

40 CFR Parts 86 and 600

[EPA-HQ-OAR-2016-0604; FRL-10010-95-OAR]

RIN 2060-AT21

Public Hearing for Vehicle Test Procedure Adjustments for Tier 3 Certification Test Fuel

AGENCY: Environmental Protection Agency (EPA).

ACTION: Notification of public hearing.

SUMMARY: The Environmental Protection Agency (EPA) is announcing a virtual public hearing to be held July 13, 2020, on its proposed Vehicle Test Procedure Adjustments for Tier 3 Certification Test Fuel rule, which was published on May 13, 2020. EPA is proposing adjustment factors to apply to vehicle GHG and fuel economy test results for the GHG and CAFE programs and the Fuel Economy and Environment Label as EPA separately implements changes in light-duty vehicle gasoline test fuel properties.

DATES: EPA will hold a virtual public hearing on July 13, 2020. Please refer to the SUPPLEMENTARY INFORMATION section for additional information on the public hearing.

ADDRESSES: The virtual public hearing will be held on July 13, 2020. The hearing will begin at 1 p.m. Eastern Time (ET) and end when all parties who wish to speak have had an opportunity to do so. All hearing attendees (including even those who do not intend to provide testimony) should notify the contact person listed under FOR FURTHER INFORMATION CONTACT by July 8, 2020. Additional information regarding the hearing appears below under SUPPLEMENTARY INFORMATION.

FOR FURTHER INFORMATION CONTACT: Tad Wysor, Office of Transportation and Air Quality, Assessment and Standards Division, Environmental Protection Agency, 2000 Traverwood Drive, Ann Arbor, MI 48105; telephone number: 734-214-4332; email address: ASD-Registration@epa.gov.

SUPPLEMENTARY INFORMATION: EPA is proposing adjustment factors to apply to vehicle GHG and fuel economy test results for the GHG and CAFE programs and the Fuel Economy and Environment Label as EPA separately implements changes in light-duty vehicle gasoline test fuel properties under the Tier 3 Motor Vehicle Emission and Fuel Standards (Tier 3 final rule at 79 FR 23414, April 28, 2014).

Participation in virtual public hearing. Please note that EPA is deviating from its typical approach because the President has declared a national emergency. Because of current CDC recommendations, as well as state and local orders for social distancing to limit the spread of COVID-19, EPA cannot hold in-person public meetings at this time.

The virtual public hearing will provide interested parties the opportunity to present data, views, or arguments concerning the proposal (which is available at https://www.epa.gov/regulations-emissions-vehicles-and-engines/vehicle-test-procedure-adjustments-tier-3-certification). EPA may ask clarifying questions during the oral presentations but will not respond to the presentations at that time. Written statements and supporting information submitted during the comment period will be considered with the same weight as any oral comments and supporting information presented at the public hearing. EPA recommends submitting the text of your oral comments as written comments to the rulemaking docket. Due to the date of the hearing, EPA is extending the comment period from August 11, 2020 until August 14, 2020. EPA must receive comments on or before that date.

EPA is also asking all hearing attendees to pre-register for the hearing by sending an email to the address listed in the FOR FURTHER INFORMATION CONTACT section above, even those who do not intend to provide testimony. This will help EPA ensure that sufficient phone lines will be available.

Please note that any updates made to any aspect of the hearing logistics, including potential additional sessions, will be posted online at https://www.epa.gov/regulations-emissions-vehicles-and-engines/vehicle-test-procedure-adjustments-tier-3-certification. While EPA expects the hearing to go forward as set forth above, please monitor our website or contact the person listed in the FOR FURTHER INFORMATION CONTACT section to determine if there are any updates.

If you require the services of a translator or special accommodations such as audio description, please pre-register for the hearing and describe your needs by July 1, 2020. EPA may not be able to arrange accommodations without advanced notice.

How can I get copies of the proposed action and other related information? EPA has established a docket for this action under Docket ID No. EPA-HQ-OAR-2016-0604. EPA has also developed a website for the rule at https://www.epa.gov/regulations-emissions-vehicles-and-engines/vehicle-test-procedure-adjustments-tier-3-certification. Please refer to the notice of proposed rulemaking for detailed information on accessing information related to the proposal.

Dated: June 26, 2020.
Sarah Dunham,
Director, Office of Transportation and Air Quality.

[FR Doc. 2020-14268 Filed 7-1-20; 8:45 am]

BILLING CODE 6560-50-P